DEPARTMENT OF ENERGY

Federal Energy Regulatory Commission

[Docket No. PR05-8-000]

Northwest Natural Gas Company; Notice of Filing of Stipulation and Agreement and Dates for Comments and Reply Comments

June 1, 2005.

Take notice that on May 27, 2005, Northwest Natural Gas Company (NW Natural) filed a stipulation and agreement and offer of settlement in the above-captioned proceeding to resolve all issues arising out of NW Natural's January 18, 2005, petition for rate approval regarding proposed rates for firm and interruptible storage and related transportation services made pursuant to sections 284.224 and 284.123(b)(2) of the Commission's regulations. NW Natural states that the filing is offered as a comprehensive resolution of all of the issues in the referenced proceeding.

Any person desiring to comment in this proceeding should file initial comments with the Federal Energy Regulatory Commission on or before June 3, 2005. Reply comments must be filed on or before June 8, 2005.

Magalie R. Salas,
Secretary.

[FR Doc. E5-3001 Filed 6-9-05; 8:45 am]

BILLING CODE 6717-01-P